DEPARTMENT OF COMMERCE

International Trade Administration

[C-570-116, C-428-848, C-533-894, C-475-841]

Forged Steel Fluid End Blocks From the People's Republic of China, the Federal Republic of Germany, India, and Italy: Correction to Countervailing Duty Orders

AGENCY: Enforcement and Compliance, International Trade Administration, Department of Commerce.

SUMMARY: The Department of Commerce (Commerce) is correcting the orders for the countervailing duty (CVD) investigations on forged steel fluid end blocks (FEBs) from the People's Republic of China (China), the Federal Republic of Germany (Germany), India, and Italy.

DATES: Applicable February 19, 2021.

FOR FURTHER INFORMATION CONTACT: Jaron Moore at (202) 482-3640 or Janae Martin at (202) 482-0238 (China); Joseph Dowling at (202) 482-1646 or Robert Palmer at (202) 482-9068 (Germany); William Langley at (202) 482-3861 or Nicholas Czajkowski at (202) 482-1395 (India); and Konrad Ptaszynski at (202) 482-6187 or Nicholas Czajkowski at (202) 482-1395 (Italy); AD/CVD Operations, Enforcement and Compliance, International Trade Administration, U.S. Department of Commerce, 1401 Constitution Avenue NW, Washington, DC 20230.

SUPPLEMENTARY INFORMATION: On January 29, 2021, Commerce published orders for the CVD investigations on FEBs from China, Germany, India, and Italy and an amended final determination for the CVD investigation on FEBs from China.¹ Commerce is correcting the Orders to include the names of the cross-owned affiliates of certain companies which were inadvertently omitted from the Orders.

¹ See Forged Steel Fluid End Blocks From the People's Republic of China, the Federal Republic of Germany, India, and Italy: Countervailing Duty Orders, and Amended Final Affirmative Countervailing Duty Determination for the People's Republic of China, 85 FR 7535 (January 29, 2021) (Orders).

Correction to the Orders

We are correcting the Orders to reflect that the net countervailable subsidy rates in the Orders are also applicable to the cross-owned companies of certain companies as reflected in the charts below.

Suspension of Liquidation and Cash Deposits

In accordance with section 706 of the Act, Commerce will instruct U.S. Customs and Border Protection (CBP) to reinstitute the suspension of liquidation of FEBs from China, Germany, India, and Italy, as described in the appendix to this notice, effective on the date of publication of the International Trade Commission's (ITC's) notice of final determination in the Federal Register, and to assess, upon further instruction by Commerce, pursuant to section 706(a)(1) of the Tariff Act of 1930, as amended (the Act), countervailing duties for each entry of the subject merchandise in an amount based on the net countervailable subsidy rates for the subject merchandise as stated in the charts below. On or after the date of publication of the ITC's final injury determination in the Federal Register, CBP must require, at the same time as importers would normally deposit estimated duties on this merchandise, a cash deposit equal to the rates stated in the charts below. The all-others rate applies to all producers or exporters not specifically listed below.

² Commerce has found the following company to be cross-owned with Nanjing Develop Advanced Manufacturing Co., Ltd.: Nanjing Develop Industrial and Commercial Co., Ltd. See Forged Steel Fluid End Blocks from the People's Republic of China: Final Affirmative Countervailing Duty Determination, 85 FR 80020, 80021 (December 11, 2020) (China Final Determination).

³ Commerce has found the following companies to be cross-owned with Shanghai Qinghe Machinery Co., Ltd.: Haimo Technologies Group Corp.; and Lanzhou Chenglin Oil Drilling Equipment Co., Ltd. See China Final Determination, 85 FR at 80021.

⁴ Commerce found the following companies to be cross-owned with BGH Edelstahl Siegen GmbH: Boschgotthardshütte O. Breyer GmbH; BGH Edelstahlwerke GmbH, Rohstoff-, Press- und Schneidbetrieb Siegen GmbH; and SRG Schrott und Recycling GmbH. See Forged Steel Fluid End Blocks from the Federal Republic of Germany: Final Affirmative Countervailing Duty Determination, 85 FR 80011, 80012 (December 11, 2020) (Germany Final Determination).

⁵ Commerce found the following companies to be cross-owned with Schmiedewerke Gröditz GmbH: GMH Schmiedetechnik GmbH; Georgsmarienhütte Holding GmbH; and GHM Recycling GmbH. See Germany Final Determination, 85 FR at 80012.

⁶ Commerce found the following company to be cross-owned with Bharat Forge Limited: Saarloha Advanced Materials Private Limited. The name of this company was also inadvertently omitted from the final determination notice. See Forged Steel Fluid End Blocks from India: Final Affirmative Countervailing Duty Determination, 85 FR 79999 (December 11, 2020) (India Final Determination), and accompanying Issues and Decision Memorandum (IDM). It was listed in the preliminary determination notice, and there were no changes which impacted this cross-ownership determination for the final determination. See Forged Steel Fluid End Blocks from India: Preliminary Affirmative Countervailing Duty Determination, and Alignment of Final Determination With Final Antidumping Duty Determination, 85 FR 31452, 31453 (May 26, 2020); see also India Final Determination IDM at 3.

⁷ Commerce has found the following companies to be cross-owned with Lucchini Mame Forge S.p.A.: Lucchini RS S.p.A.; Lucchini Industries; Bicomet S.p.A.; and Setrans SrL. The names of these companies were also inadvertently omitted from the final determination notice. See Forged Steel Fluid End Blocks from Italy: Final Affirmative Countervailing Duty Determination, 85 FR 80022 (December 11, 2020) (Italy Final Determination), and accompanying IDM. They were listed in the preliminary determination notice, and there were no changes which impacted this cross-ownership determination for the final determination. See Forged Steel Fluid End Blocks from Italy: Preliminary Affirmative Countervailing Duty Determination, and Alignment of Final Determination With Final Antidumping Duty Determination, 85 FR 31460, 31461 (May 26, 2020) (Italy Prelim Determination); see also Italy Final Determination IDM at 3.

⁸ Commerce has found the following companies to be cross-owned with Metalcam S.p.A.: Adamello Meccanica S.r.l.; and B.S. S.r.l. The names of these companies were also inadvertently omitted from the final determination notice. See Italy Final Determination IDM. They were listed in the preliminary determination notice, and there were no changes which impacted this cross-ownership determination for the final determination. See Italy Prelim Determination, 85 FR at 31461; see also Italy Final Determination IDM at 3.

Exporter/producer | Subsidy rate (percent)
China:
Nanjing Develop Advanced Manufacturing Co., Ltd ² | 16.80
Shanghai Qinghe Machinery Co., Ltd ³ | 19.88
China Machinery Industrial Products Co., Ltd | 337.07
Anhui Tianyu Petroleum Equipment Manufacturing Co., Ltd
CNCCC Sichuan Imp & Exp Co., Ltd
GE Petroleum Equipment (Beijing) Co., Ltd
Jiaxing Shenghe Petroleum Machinery Co., Ltd
Ningbo Minmetals & Machinery Imp & Exp Co., Ltd
Qingdao RT G&M Co., Ltd
Shandong Fenghuang Foundry Co., Ltd
Shandongshengjin Ruite Energy Equipment Co., Ltd. (part of Shengli Oilfield R&T Group)
Shanghai Baisheng Precision Machine
Shanghai Boss Petroleum Equipment
Shanghai CP Petrochemical and General Machinery Co., Ltd
Suzhou Douson Drilling & Production Equipment Co., Ltd
Zhangjiagang Haiguo New Energy Equipment Manufacturing Co., Ltd
Anhui Yingliu Electromechanical Co., Ltd
Daye Special Steel Co., Ltd., (Citic Specific Steel Group)
Suzhou Fujie Machinery Co., Ltd., (Fujie Group)
All Others | 19.52
Germany:
BGH Edelstahl Siegen GmbH ⁴ | 5.86
Schmiedewerke Gröditz GmbH ⁵ | 6.71
voestalpine Bohler Group | 14.81
All Others | 6.29
India:
Bharat Forge Limited ⁶ | 5.20
All Others | 5.20
Italy:
Lucchini Mame Forge S.p.A ⁷ | 4.76
Metalcam S.p.A ⁸ | 3.12
All Others | 3.52
Companies Subject to AFA (non-respondent companies): Forge Mochieri S.p.A.; Imer International S.p.A.; Galperti Group, Mimest S.p.A.; P. Technologies S.r.L | 44.86

Dated: February 12, 2021.
Christian Marsh,
Acting Assistant Secretary for Enforcement and Compliance.

[FR Doc. 2021-03395 Filed 2-18-21; 8:45 am]

BILLING CODE 3510-DS-P